NATIONAL OCEANIC AND ATMOSPHERIC ADMINISTRATION

Updates to List of National System of Marine Protected Areas (MPAs)

AGENCY: NOAA, Department of Commerce (DOC).

ACTION: Notice of updates to the List of National System of Marine Protected Areas (MPAs) and response to comments on nominations of existing MPAs to the national system.

SUMMARY: The National System of Marine Protected Areas (MPAs) provides a mechanism for MPAs managed by diverse government agencies to work together on common conservation priorities. In July 2011, NOAA and the Department of the Interior (DOI) invited federal, state, commonwealth, territorial and tribal MPA programs with potentially eligible existing MPAs to nominate their sites to the National System of MPAs (national system). A total of 58 nominations were received, including three from the American Samoa Department of Marine and Wildlife Resources, 40 from the Massachusetts Board of Underwater Archaeological Resources, three from the National Park Service, one from the U.S. Fish and Wildlife Service, five from the Puerto Rico Department of Natural and Environmental Resources, two from the South Carolina Institute of Archaeology and Anthropology, one from the Virgin Islands Department Of Planning and Natural Resources and three from the Washington Department of Natural Resources. Following a 45-day public review period, two public comments were received by the National Marine Protected Areas Center (MPA Center). Both comments were supportive of the Fort Pulaski National Monument, which was nominated by the National Park Service. The managing agencies listed above were asked to make a final determination of sites to nominate to the national system. Finding them to be eligible for the national system, the MPA Center has accepted the nominations for 58 sites and placed them on the List of National System MPAs.

The national system and the nomination process are described in the Framework for the National System of Marine Protected Areas of the United States of America (Framework), developed in response to Executive Order 13158 on Marine Protected Areas. The final Framework was published on November 19,2008, and provides guidance for collaborative efforts among federal, state, commonwealth, territorial, tribal and local governments and stakeholders to develop a national system that includes existing MPAs meeting national system criteria as well as new sites that may be established by managing agencies to fill key conservation gaps in important ocean areas.

FOR FURTHER INFORMATION CONTACT: Lauren Wenzel, NOAA, at 301-713-3100, ext. 136 or via email at mpa.comments@noaa.gov. A detailed electronic copy of the List of National System MPAs is available for download at http://www.mpa.gov.

SUPPLEMENTARY INFORMATION:

Background on National System

The national system of MPAs is made up of member MPA sites, networks and systems established and managed by federal, state, commonwealth, territorial, tribal and/or local governments that collectively enhance conservation of the nation's natural and cultural marine heritage and represent its diverse ecosystems and resources. Although participating sites continue to be managed independently, national system MPAs also work together at the regional and national levels to achieve common objectives for conserving the nation's important natural and cultural resources, with emphasis on achieving the priority conservation objectives of the Framework. MPAs include sites with a wide range of protection, from multiple use areas to no take reserves where all extractive uses are prohibited. The term MPA refers only to the marine portion of a site (below the mean high tide mark) that may include both terrestrial and marine components.

The national system is a mechanism to foster greater collaboration among participating MPA sites and programs in order to enhance stewardship in the waters of the United States. The act of joining the national system does not create new MPAs, or create new restrictions for the existing MPAs that become members. In fact, a site must have existing protections of natural and/or cultural resources in place in order to be eligible to join the national system, as well as meeting other criteria described in the Framework. Joining the national system does not establish new regulatory authority or change existing regulations in any way, require changes affecting the designation process or management of member MPAs or bring state, territorial, tribal or local sites under federal authority.

Benefits of joining the national system, which are expected to increase over time as the system matures, include a facilitated means to work with other sites in the MPA's region, and nationally on issues of common conservation concern; fostering greater public and international recognition of U.S. MPAs and the resources they protect; priority in the receipt of available technical and other support for cross-cutting needs; and the opportunity to influence federal and regional ocean conservation and management initiatives (such as integrated ocean observing systems, systematic monitoring and evaluation, targeted outreach to key user groups, and helping to identify and address MPA research needs). In addition, the national system provides a forum for coordinated regional planning about place-based conservation priorities that does not otherwise exist.

Nomination Process

The Framework describes two major focal areas for building the national system of MPAs—a nomination process to allow existing MPAs that meet the entry criteria to become part of the system and a collaborative regional gap analysis process to identify areas of significance for natural or cultural resources that may merit additional protection through existing federal, state, commonwealth, territorial, tribal or local MPA authorities. A call for nominations is issued annually, and may also be issued at the request of an MPA management agency. This round of nominations began on July 6, 2011 and the deadline for nominations was October 31, 2011. A public comment period was held from December 30, 2011 through February 13, 2012.

There are three entry criteria for existing MPAs to join the national system, plus a fourth for cultural heritage. Sites that meet all pertinent criteria are eligible for the national system.

1. Meets the definition of an MPA as defined in the Framework.

2. Has a management plan (can be site-specific or part of a broader programmatic management plan; must have goals and objectives and call for monitoring or evaluation of those goals and objectives).

3. Contributes to at least one priority conservation objective as listed in the Framework (see below).

4. Cultural heritage MPAs must also conform to criteria for the National Register for Historic Places.

Additional sites not currently meeting the management plan criterion can be evaluated for eligibility to be nominated to the system on a case-by-case basis based on their ability to fill gaps in the national system coverage of the priority conservation objectives and design principles described in the Framework.

The MPA Center used existing information in the MPA Inventory to determine which MPAs meet the first and second criteria. The inventory is online at http://www.mpa.gov/dataanalysis/mpainventory/ and potentially eligible sites are posted online at http://www.mpa.gov/nationalsystem/nominationprocess/. As part of the nomination process, the managing entity for each potentially eligible site is asked to provide information on the third and fourth criteria.

Updates to List of National System MPAs

The following MPAs have been nominated by the American Samoa Department of Marine and Wildlife Resources, the Massachusetts Board of Underwater Archaeological Resources, the National Park Service, the U.S. Fish and Wildlife Service, the Puerto Rico Department of Natural and Environmental Resources, the South Carolina Institute of Archaeology and Anthropology, the Virgin Islands Department of Planning and Natural Resources and the Washington Department of Natural Resources to join the national system of MPAs. The complete List of National System MPAs, which now includes 355 members, is available at www.mpa.gov.

Response to Public Comments

On December 30, 2011, NOAA and DOI (agencies) published the Nomination of Existing Marine Protected Areas (MPAs) to the National System of Marine Protected Areas for public comment, for the nomination of fifty-eight existing MPAs. By the end of the 45-day comment period, two public comments had been received. Both comments expressed support for the nomination of the Fort Pulaski National Monument, noting that its membership in the national system provides an opportunity to raise awareness of the area, highlight opportunities for research and increase cooperation with other protected areas and marine research institutions in the region.

Federal Marine Protected Areas

Cumberland Island National Seashore (GA)

Ebey's Landing National Historical Reserve (WA)

Farallon National Wildlife Refuge (CA)

Fort Pulaski National Monument (GA)

American Samoa

Aoa Village Marine Protected Area

Sa'ilele Village Marine Protected Area

Amanave Village Marine Protected Area

Massachusetts (Shipwrecks)

Albert Gallatin Exempt Site

Alice M. Colburn Exempt Site

Alice M. Lawrence Exempt Site

Ardandhu Exempt Site

Barge and Crane Exempt Site

California Exempt Site

State Charles S. Haight Exempt Site

Chester A. Poling Exempt Site

Chelsea Exempt Site

City of Salisbury Exempt Site

Corvan Exempt Site

Dixie Sword Exempt Site

Edward Rich Exempt Site

Henry Endicott Exempt Site

Herbert Exempt Site

Herman Winter Exempt Site

Hilda Garston Exempt Site

James S. Longstreet Exempt Site

John Dwight Exempt Site

Kershaw Exempt Site

Kiowa Exempt Site

Lackawana Exempt Site

Lunet Exempt Site

Mars Exempt Site

Pemberton Exempt Site

Pendleton Exempt Site

Pinthis Exempt Site

Port Hunter Exempt Site

Pottstown Exempt Site

Romance Exempt Spite

Seaconnet Exempt Site

Trojan Exempt Site

U.S.S. Grouse Exempt Site

U.S.S. New Hampshire Exempt Site

U.S.S. Triana Exempt Site

U.S.S. Yankee Exempt Site

U.S.S. YSD Exempt Site

H.M.C.S. Saint Francis Exempt Site

French Van Gilder Exempt Site

Vineyard Sound Lightship Exempt Site

Puerto Rico

Arrecifes de la Cordillera Natural Reserve

Canal Luis Pen, a Natural Reserve

Isla de Desecheo Marine Reserve

Isla de Mona Natural Reserve

Tres Palmas de Rinco 'n Marine Reserve

South Carolina

Cooper River Heritage Dive Trail

Ashley River Heritage Canoe Trail

U.S. Virgin Islands

St. Thomas East End Reserve

Washington

Smith and Minor Island Aquatic Reserve

Protection Island Aquatic Reserve

Nisqually Reach Aquatic Reserve

Dated: March 28, 2012.
David M. Kennedy,
Assistant Administrator, National Ocean Service, National Oceanic Atmospheric Administration.

[FR Doc. 2012-9301 Filed 4-18-12; 8:45 am]

BILLING CODE 3510-08-M